ENVIRONMENTAL PROTECTION AGENCY

40 CFR Part 745

[EPA-R06-OPPT-2013-0398; FRL-9905-14-Region 6]

Lead-Based Paint Renovation, Repair and Painting, and Pre-Renovation Education Activities in Target Housing and Child Occupied Facilities; Oklahoma; Notice of Self-Certification Program Authorization, and Request for Public Comment on Self-Certification

AGENCY: Environmental Protection Agency (EPA).

ACTION: Self-certification program authorization and request for comments.

SUMMARY: This document announces that on March 25, 2013, the State of Oklahoma was deemed authorized under section 404(a) of the Toxic Substances Control Act (TSCA), to administer and enforce requirements for a renovation, repair and painting program (RRP) and a lead-based paint pre-renovation education program (PRE) in accordance with 406(b) of TSCA. This document also announces that EPA is seeking comment during a 45-day public comment period on the State of Oklahoma's self-certification. This document also announces that the authorization of the Oklahoma 402(c)(3) and 406(b) programs, which was deemed authorized by regulation and statute on March 25, 2013, will continue without further notice unless EPA, based on its own review and/or comments received during the comment period, disapproves this Oklahoma program application.

DATES: Comments identified by Docket Control Number EPA-R06-OPPT-2013-0398, must be received on or before February 24, 2014.

ADDRESSES: Comments may be submitted by mail, electronically, or in person. Please follow the detailed instructions for each method as provided in Section I of this notice.

SUPPLEMENTARY INFORMATION: To ensure proper receipt by EPA, it is important that you identify Docket Control Number EPA-R06-OPPT-2013-0398 in the subject line on the first page of your response.

FOR FURTHER INFORMATION CONTACT: Cindy Parker, Toxics Section, Toxics, Pesticides and Underground Storage Tanks Branch, Multimedia Planning and Permitting Division, United States Environmental Protection Agency, 1445 Ross Avenue, Ste 1200, Dallas, Texas 75202-2733. The telephone number where Ms. Parker can be reached is: (214) 665-7291. Ms. Parker can be contacted via electronic mail at parker.cindy@epa.gov.mailto:

SUPPLEMENTARY INFORMATION:

Table of Contents

I. General Information

II. Background

III. State Program Description Summaries

IV. Federal Overfiling

V. Withdrawal of Authorization

I. General Information

A. Does this action apply to me?

This action is directed to the public in general, to entities offering Lead Safe Renovation courses, and to firms and individuals engaged in renovation and remodeling activities of pre-1978 housing and child-occupied facilities in the State of Oklahoma. Individuals and firms falling under the North American Industrial Classification System (NAICS) codes 231118, 238210, 238220, 238320, 531120, 531210, 53131, e.g., General Building Contractors/Operative Builders, Renovation Firms, Individual Contractors, and Special Trade Contractors like Carpenters, Painters, Drywall Workers and Plumbers, “Home Improvement” Contractors, as well as Property Management Firms and some Landlords are also affected by these rules. This listing is not intended to be exhaustive, but rather provides a guide for readers regarding entities likely to be affected by this action. Other types of entities not listed here could also be affected. The NAICS codes have been provided to assist you and others in determining whether this action might apply to certain entities. If you have any questions regarding the applicability of this action to a particular entity, consult the technical person listed under FOR FURTHER INFORMATION CONTACT.

B. How can I get additional information, including copies of this document or other related documents?

1. Electronically: you may obtain electronic copies of this document, and certain other related documents that might be available electronically, from the EPA Internet Home Page at http://www.epa.gov/ or from http://www.regulations.gov/. You can also go directly to the Federal Register listings at http://www.gpoaccess.gov/fr/.

2. In person: you may read this document, and certain other related documents, by visiting the Oklahoma Department of Environmental Quality, Central Records, 707 North Robinson Street, Oklahoma City, Oklahoma 73102. You should arrange your visit to the ODEQ office by contacting Rhonda Craig, 405-702-0152, or by email at Rhonda.Craig@deq.ok.gov. You may also read this document, and certain other related documents, by visiting the United States Environmental Protection Agency, Region 6 Office, 1445 Ross Avenue, Ste 700, Dallas, TX 75202. You should arrange your visit to the EPA office by contacting the technical person listed under FOR FURTHER INFORMATION CONTACT. Also, EPA has established an official record for this action under Docket Control Number EPA-R06-OPPT-2013-0398. The official record consists of the documents specifically referenced in this action, this notice, the State of Oklahoma 402(c)(3) and 406(b) program authorization applications, documents related to EPA's offer to consult with any affected Tribes in Oklahoma, any public comments received during an applicable comment period, and other information related to this action.

C. How and to whom do I submit comments?

You may submit comments through the mail, in person, or electronically. To ensure proper receipt by EPA, it is important that you identify Docket Identification Number EPA-R06-OPPT-2013-0398 in the subject line on the first page of your response.

Submit your comments, by one of the following methods:

1. http://www.regulations.gov: Follow the on-line instructions for submitting comments.

2. By mail: Submit your comments and hearing requests to: Cindy Parker, Toxics Section, 6PD-T, United States Environmental Protection Agency, 1445 Ross Avenue, Ste 1200, Dallas, Texas 75202-2733.

3. By person or courier: Deliver your comments and hearing requests to: Cindy Parker, Toxics Section, Multimedia Planning and Permitting Division, United States Environmental Protection Agency, 1445 Ross Avenue, Ste 700, Dallas, Texas 75202-2733. Such deliveries are only accepted during the Regional Office's normal hours of operation. The Regional Office's official hours of business are Monday through Friday, 8:30 to 4:30, excluding federal holidays.

4. By fax: 214-665-6655.

5. By email: You may submit your comments and hearing requests electronically by email to: parker.cindy@epa.gov, or mail your computer disk to the address identified above. Do not submit any information electronically that you consider Confidential Business Information (CBI). Electronic comments must be submitted as an ASCII file avoiding the use of special characters and any form of encryption. Comments and data will also be accepted on standard disks in Microsoft Word or ASCII file format.

Instructions: Direct your comments to Docket ID Number EPA-R06-OPPT-2013-0398. EPA's policy is that all comments received will be included in the public docket without change and may be made available online at http://www.regulations.gov including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy.

D. How should I handle CBI information that I want to submit to the agency?

Do not submit this information to EPA through regulations.gov or email. Clearly mark on each page the part or all of the information that you claim to be CBI. For CBI information in a disk or CD-ROM that you mail to EPA, mark the outside of the disk or CD-ROM that you mail to EPA as CBI, and then identify electronically within the disk or CD-ROM the specific information that is claimed as CBI. In addition to one complete version of the comment that includes information claimed as CBI, a copy of the comment that does not contain the information claimed as CBI must be submitted for inclusion in the public docket. Information so marked as CBI will not be disclosed except in accordance with procedures set forth in 40 CFR Part 2. If you have any questions about CBI or the procedures for claiming CBI, please consult the technical person identified under FOR FURTHER INFORMATION CONTACT.

E. What should I consider as I prepare my comments for EPA?

You may find the following suggestions helpful for preparing your comments.

1. Explain your views as clearly as possible.

2. Describe any assumptions that you use.

3. Provide copies of any technical information and/or data you use that support your views.

4. If you estimate potential burden or costs, explain how you arrive at the estimate that you provide.

5. Provide specific examples to illustrate your concerns.

6. Offer alternative ways to improve the notice or collection activity.

7. Make sure to submit your comments by the deadline in this notice.

8. To ensure proper receipt by EPA, identify the Docket Control Number assigned to this action in the subject line on the first page of your response. You may also provide the name, date, and Federal Register citation.

II. Background

A. What action is the agency taking?

EPA is announcing that the State of Oklahoma on March 25, 2013, was deemed authorized under section 404(a) of TSCA, 15 U.S.C. 2684(a) and 40 CFR 745.324(d)(2), to administer and enforce requirements for a renovation, repair and painting program in accordance with section 402(c)(3) of TSCA, 15 U.S.C. 2682(c)(3), and a lead-based paint pre-renovation education program in accordance with section 406(b) of TSCA, 15 U.S.C. 2686(b). This notice also announces that EPA is seeking comment on Oklahoma's self-certification. The 402(c)(3) program ensures that training providers are accredited to teach renovation classes, that individuals performing renovation activities are properly trained and certified as renovators, that firms are certified as renovation firms, and that specific work practices are followed during renovation activities. The 406(b) program ensures that owners and occupants of target housing are provided information concerning potential hazards of lead-based paint exposure before certain renovations are begun.

On March 25, 2013, Oklahoma submitted an application under section 404 of TSCA requesting authorization to administer and enforce requirements for a renovation, repair and painting program in accordance with section 402(c)(3) of TSCA, and a pre-renovation education program in accordance with section 406(b) of TSCA, and submitted a self-certification that these programs are at least as protective as the federal programs and provide for adequate enforcement. Therefore, pursuant to section 404(a) of TSCA, and 40 CFR 745.324(d)(2), the Oklahoma renovation program and pre-renovation education program are deemed authorized as of the date of submission and until such time as the Agency disapproves the program application or withdraws program authorization. Pursuant to section 404(b) of TSCA and 40 CFR 745.324(e)(2), EPA is providing notice and an opportunity for public comment on Oklahoma's self-certification. The authorization of the Oklahoma 402(c)(3) and 406(b) programs, which were deemed authorized by EPA on March 25, 2013, will continue without further notice unless EPA, based on its own review and/or comments received during the comment period, disapproves one or both of these Oklahoma program applications. Oklahoma is not authorized to carry out its RRP or PRE programs in “Indian Country”, as defined in 18 USC 1151. Therefore, this action has no effect on Indian country. EPA retains the authority to implement and administer the RRP and PRE programs on these lands.

In accordance with the EPA policy on Consultation and Coordination with Indian Tribes, EPA Region 6 has offered government-to-government consultation to all Tribes within the State of Oklahoma. Any requested consultations will be conducted in accordance with the policy and completed by the date of the end of the public comment period February 24, 2014. Tribal consultation will be conducted in accordance with the EPA policy on Consultation and Coordination with Indian Tribes (www.epa.gov/tribal/consultation/consult-policy.htm).

B. What is EPA's authority for taking this action?

On October 28, 1992, the Housing and Community Development Act of 1992, Public Law 102-550, became law. Title X of that statute was the Residential Lead-Based Paint Hazard Reduction Act of 1992. That Act amended TSCA (15 U.S.C. 2601 et seq.) by adding Title IV (15 U.S.C. 2681-2692), entitled “Lead Exposure Reduction.” On April 22, 2008, EPA promulgated the final TSCA section 402(c)(3) regulations governing renovation activities. See 73 FR 21692. These regulations require that in order to do renovation activities for compensation, renovators must first be properly trained and certified, must be associated with a certified renovation firm, and must follow specific work practice standards, including recordkeeping requirements. In addition, the rule prescribes requirements for the training and certification of dust sampling technicians. On June 1, 1998, EPA promulgated the final TSCA section 406(b) regulations governing pre-renovation education requirements in target housing. See 63 FR 29908. This program ensures that owners and occupants of target housing are provided information concerning potential hazards of lead-based paint exposure before certain renovations are begun on that housing. In addition to providing general information on the health hazards associated with exposure to lead, EPA developed the lead hazard information pamphlet. This pamphlet advises owners and occupants to take appropriate precautions to avoid exposure to lead-contaminated dust and debris that are sometimes generated during renovations. EPA believes that regulation of renovation activities and the distribution of the pamphlet will help to reduce the exposures that cause serious lead poisonings, especially in children under age 6, who are particularly susceptible to the hazards of lead.

Under section 404 of TSCA, a state may seek authorization from EPA to administer and enforce its own pre-renovation education program or renovation, repair and painting program in lieu of the federal programs. The regulations governing the authorization of a state program under both sections 402 and 406 of TSCA are codified at 40 CFR Part 745, subpart Q. States that choose to apply for program authorization must submit a complete application to the appropriate regional EPA office for review. Those applications will be reviewed by EPA within 180 days of receipt of the complete application. To receive EPA approval, a state must demonstrate that its program is at least as protective of human health and the environment as the federal program, and provides for adequate enforcement, as required by Section 404(b) of TSCA. EPA's regulations at 40 CFR Part 745, subpart Q, provide the detailed requirements a state program must meet in order to obtain EPA approval. A state may choose to certify that its own pre-renovation education program or renovation, repair and painting program meets the requirements for EPA approval, by submitting a letter signed by the Governor or Attorney General stating that the program is at least as protective of human health and the environment as the federal program and provides for adequate enforcement. Upon submission of such a certification letter, the program is deemed authorized pursuant to TSCA section 404(a) and 40 CFR 745.324(d)(2). This authorization becomes ineffective, however, if EPA disapproves the application or withdraws the program authorization.

III. State Program Description Summaries

A. The following excerpt is from the renovation, repair and painting program description submitted in Oklahoma's self-certification application:

The Oklahoma Department of Environmental Quality (DEQ) submits this application with the intent of self-certifying for authorization of the federal Renovation, Repair and Painting (RRP) program, along with the Pre-Renovation Education program. The Department of Environmental Quality (DEQ) currently administers a comprehensive lead-based paint (LBP) management program in Oklahoma with the authority of the “Oklahoma LBP Management Act” (Act), 27A Okla Stat. (O.S.) § 2-12-101 et seq. The LBP Management Rules, Okla. Admin. Code (OAC) 252:110-1-1 et seq. (Chapter 110) were adopted to fulfill the mandates of the Act. The Chapter 110 rules establish mechanisms for certification of individuals and firms, accreditation of training providers, and implementation of performance standards for LBP services. Chapter 110 was updated, and a new Subchapter 15 was added in 2012 to allow the DEQ to seek delegation of the RRP program.

In general, the RRP provisions in 40 CFR Part 745 Subpart E were incorporated by reference into the Oklahoma Administrative Code. The items not incorporated by reference are those that are otherwise mandated by the Act, or that were modified to blend the RRP program into the existing state program. The differences are minor and all concern the accreditation of training providers.

The LBP/RRP program is administered by the Air Quality Division of the DEQ. The point of contact for this program is Randall Ward, Environmental Programs Manager, who can be reached by mail at Oklahoma Department of Environmental Quality, Air Quality Division, P.O. Box 1677, 707 N. Robinson, Oklahoma City, OK 73101-1677, by telephone at (405) 702-4128 or by fax at (405) 702-4101.

Public rulemaking hearings for the adoption of the RRP program were held in conjunction with approval of the revised Chapter 110 rules, and the rules were affirmatively approved by the Oklahoma State Legislature and the Governor on May 1, 2012. Public hearings were noticed in accordance with the Oklahoma Administrative Procedures Act, and were held on January 19, 2011; July 20, 2011; and October 5, 2011 before the Oklahoma Air Quality Council. The rules were approved by the Council on October 5, 2011, and after another public hearing on February 24, 2012 were approved by Oklahoma Environmental Quality Board.

The Air Quality Division (AQD) has existed (within the Oklahoma State Department of Health and later within the DEQ) since 1971. The LBP Program is administered by the AQD and staffed by the Technical Resources and Projects Section. The various LBP program duties (enforcement, compliance, inspections, certification, accreditation, public education) are accomplished through the efforts of three full-time equivalent employees.

For both LBP activity training and the RRP training, the Oklahoma LBP Management Rules (Rules) incorporate by reference the federal accreditation requirements in 40 CFR 745.225, except for those subsections that address application dates, accreditation deadlines, accredited training courses, programs that offer only refresher courses, renewal timelines, and renewal deadlines. In addition to providing the various dates, timelines and deadlines not incorporated by reference from the federal rule, the Rules limit accreditation to educational institutions and government agencies that offer ongoing and continuous LBP training programs. In addition to the incorporations by reference, Oklahoma rules provide for provisional accreditation, OAC 252:110-9-5. A stakeholder task force strongly recommended an on-site evaluation of the training prior to issuing final accreditation in order to ensure that the training organization operates according to the information given in the accreditation application. Provisional accreditation allows the training facility to provide training under the conditions outlined in OAC 252:110-9-5. EPA rules do not provide for an on-site evaluation of the training program prior to the issuance of final accreditation. Therefore, Oklahoma's provisional accreditation is essentially equivalent to EPA's final accreditation. DEQ further ensures quality training by requiring an on-site evaluation before final accreditation is issued.

Refresher courses can be accredited only if the training program has received accreditation for the initial discipline-specific training course. Programs that have been accredited by another state or agency must apply for and receive accreditation from DEQ before conducting or advertising a training course in Oklahoma. An accredited training program must notify the DEQ of course offerings, significant changes in the program, course cancellations, and personnel changes. Annual renewal is required and is based on documented implementation of compliance updates as well as satisfactory course and instructor evaluations.

The Oklahoma RRP program is identical to the federal program except for the accreditation requirements.

Program Elements

a. Public Information and Outreach

Program information (applications, regulations, statutes, lists of certified contractors, educational materials, etc.) is mailed to customers upon request. Increasingly, most of this information can be obtained through the Internet. The LBP Program pages are contained in the “Air Quality” subset of the DEQ Home Page (http://www.deq.state.ok.us). As program resources allow, and dependent on public demand, public outreach and education activities are performed.

b. Accreditation of Training Providers

The federal program for accreditation of LBP training providers is established in 40 CFR 745.225. DEQ incorporated this federal rule by reference in OAC 252:110-5-1(2) with the following exceptions.

745.225(a)(2), which refers to application dates,

745.225(a)(3), which refers to accreditation deadlines,

745.225(f)(1), which refers to timelines for renewal of accreditation of training programs, and

745.225(f)(2), which refers to renewal accreditation deadlines.

27A O.S. 2-12-303(D) establishes an annual renewal year for accreditations from September 1 through August 31. Likewise, accreditation timelines are established in OAC 252:110-7-2(c). In addition to incorporating by reference 745.225(f)(3) and (f)(4), DEQ provides criteria for re-accreditation of training programs at OAC 252:110-9-7.

745.225(b)(3), which refers to accredited training courses, and

745.225(e)(5), which refers to training programs offering refresher training courses.

These federal rules permit a training program to offer refresher courses only. Per the eligibility requirements established in OAC 252:110-9-1, “Training programs shall not receive accreditation for a refresher course if they do not also receive accreditation for the discipline-specific initial training course.” This section also limits accreditation to “educational institutions and government agencies”.

c. Certification of Individuals and Firms

Under the federal RRP program as incorporated by reference in the Oklahoma regulations, individuals receive their certification by completing courses at accredited training providers. RRP firms are certified by the state using the federal procedure except for the transition period from EPA to Oklahoma delegation. In that period, EPA certified firms may transfer their certification to Oklahoma without payment of fees until the certification expires.

d. Enforcement and Compliance

The Oklahoma RRP program will rely heavily upon DEQ's Complaints system. Since 1993 the state-wide complaints program has allowed citizens access to a toll-free hotline and local Environmental Program Specialists who can provide assistance and information. The complaints system is also important to the LBP activities programs as it allows industry competitors access to an anonymous reporting system.

Although the DEQ prefers education and compliance assistance for small businesses, the LBP/RRP program is fully supported by the DEQ's enforcement authority. DEQ has the statutory authority to perform inspections, pursue enforcement actions, and assess penalties.

Authority To Enter

State law (27A O.S. § 2-3-501) grants the authority for duly authorized representatives of the DEQ to enter, through consent or warrant, any private or public property where lead-based paint activities or training may occur to conduct inspections, take samples, and review records. Further, the Oklahoma LBP Management Act grants DEQ the power to enforce the rules, collect samples for enforcement purposes, and otherwise exercise the incidental powers necessary for enforcement. See 27A O.S. § 2-12-202(B). DEQ has further addressed the issue of entrance for inspection purposes in OAC 252:110-7-3(c), whereby holders of DEQ issued “authorizations” (such as certifications and accreditations) have a duty to allow DEQ representatives the right to inspect.

Enforcement Remedies

All environmental programs administered by DEQ are designed to focus agency efforts on assisting the regulated community with the common goal of compliance with environmental regulations. Article III, Part 5 of the “Oklahoma Environmental Quality Code,” (27A O.S. § 2-1-102, et seq.), provides for the general enforcement of the DEQ rules, permits, and orders and extends to all programs administered by the DEQ (27A O.S. § 2-3-506(D)). The aforementioned remedies are in addition to those found in other Oklahoma law, including criminal statutes contained in Title 21 of the Oklahoma Statutes. The civil enforcement remedies include:

i. Letters and Notices

Notices of Violation. 27A O.S. § 2-3-502(A).

ii. Penalty Authority

The DEQ may issue Administrative Compliance Orders, which may include administrative penalties for past violations and stipulated penalties for violations of Orders, and which may specify compliance requirements and schedules and/or corrective action (27A O.S. § 2-3-502(B)). After notice and opportunity for an administrative hearing, the DEQ may revoke, modify or suspend the holder's license in part or in whole (27A O.S. § 2-3-502(D)). The DEQ may also seek injunctive relief to compel compliance with or prevent violation of any section of the Code or any license or order issued pursuant thereto (27A O.S. § 2-3-504(A)(4)). Violations may be punished by monetary penalties assessed in administrative proceedings (27A O.S. § 2-3-502(K)), or in civil proceedings (27A O.S. § 2-3-504(A)(2)), not to exceed $10,000.00 per day of noncompliance.

iii. Criminal Authority

The DEQ may request either the Attorney General or the district attorney of the appropriate district court of Oklahoma to criminally prosecute anyone who violates the Code, rules promulgated thereunder, or orders issued, or conditions of permits, licenses, certificates or other authorizations prescribed pursuant thereto (27A O.S. § 2-3-504(I)). Such violations are misdemeanors, punishable by a fine of not less than $200.00 for each violation and not more than $10,000.00 for each violation and/or by imprisonment in the county jail for not more than six months (27A O.S. § 2-3-504(A)(1)). In addition, anyone who knowingly makes a false statement in, or omits material data from, any application for a permit, license, certificate or other authorization, or any notice, analyses or report required by the Code, rules promulgated thereunder, or permit, license, certificate or other authorization issued pursuant thereto, or who knowingly alters any sample may be guilty of a misdemeanor and subject to a fine of not more than $5,000.00 for each such violation (27A O.S. § 2-3-505). Criminal sanctions may also be imposed pursuant to Oklahoma's Penal Code. For example, persons who make false statements when advertising a service can be guilty of a misdemeanor under 21 O.S. § 1502. Whether a violation will be recommended for criminal prosecution is a case-by-case decision to be based upon the willfulness and severity of the violation as well as the effect on human health and the environment.

B. The following summary is an excerpt from Oklahoma's renovation, repair and painting program self-certification application:

Because the Oklahoma Lead-Based Paint program already included EPA-approved training provider elements that are considerably more stringent than the federal program, Oklahoma chose to maintain that portion of the Lead-Based Paint program for use with the new RRP program. The differences include: Requirements that only educational institutions and government agencies may become accredited; providers must offer on-going programs that include both initial and refresher training; and requirements for inspections, annual reviews, and renewal. Fees for training providers were also modified so that the annual renewal would not lead to a fee increase over the EPA program.

During the public hearings before the Air Quality Council, concerns were raised that the DEQ RRP program would cause financial hardship on renovation firms and training providers that were already approved by EPA at the time of delegation approval and might have several years left before they were required to renew under the EPA program. In response, the proposed rules were amended to include transition language exempting EPA-approved firms and training providers from fees until the expiration of their EPA-approval.

The Oklahoma RRP program will utilize the existing accreditation structure of inspections and close review to ensure a quality training system. The existing DEQ enforcement system will also apply to the RRP program, but for the RRP firms and their work practices, much of the enforcement will come through the DEQ complaint system. The complaint system uses a toll-free state wide number, strict timelines for response and investigation, and referral to the various DEQ divisions for expert follow-up. The DEQ complaint system is well-established and has proven effective in all programs, including the Oklahoma LBP activities program. The activities program provides a network of individuals and firms throughout the state that also self-monitor to assist in compliance.

IV. Federal Overfiling

Section 404(b) of TSCA makes it unlawful for any person to violate, or fail or refuse to comply with, any requirement of an approved state program. Therefore, EPA reserves the right to exercise its enforcement authority under TSCA against a violation of, or a failure or refusal to comply with, any requirement of an authorized state program.

V. Withdrawal of Authorization

Pursuant to section 404(c) of TSCA, the EPA Administrator may withdraw authorization of a State or Indian tribal renovation, repair and painting program, and/or a lead-based paint pre-renovation education program, after notice and opportunity for corrective action, if the program is not being administered or enforced in compliance with standards, regulations, and other requirements established under the authorization. The procedures U.S. EPA will follow for the withdrawal of an authorization are found at 40 CFR 745.324(I).

List of Subjects in 40 CFR 745

Environmental protection, Hazardous substances, Lead poisoning, Reporting and recordkeeping requirements.

Dated: December 19, 2013.
Ron Curry,
Regional Administrator, Region 6.

[FR Doc. 2014-00270 Filed 1-9-14; 8:45 am]

BILLING CODE 6560-50-P